FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicant:

Dependable Worldwide Express, LLC, 3915 Allendale Avenue, Oakland, CA 94619. Officer: Julie Lu, Member (Qualifying Individual).

La Republica Cargo Express Corp., 30 Lawrence Street, Yonkers, NY 10705. Officer: Edgar J. Camacho, President (Qualifying Individual).

Guzal Cargo Express Corp., 5561 NW 72nd Avenue, Miami, FL 33166. Officer: Herman D. Hoyos, President (Qualifying Individual).

PJC Freightways, Inc., 7900 NW. 68th Street, Miami, FL 33166. Officer: Antonio B. Franca, President (Qualifying Individual).

Curiel International Logistics LLC, 1 Harborside Place, Ste. 322, Jersey City, NJ 07311. Officer: Cesar A. Curiel, President (Qualifying Individual).

Global Tranz Enterprises, LLC dba Carrierrate.com, 18401 North 25th Avenue, Ste. D-E, Phoenix, AZ 85023. Officers: Steve R. Bowman, CSO/Manager (Qualifying Individual). Andrew J. Leto, Manager.

ALT Intermodal Inc. dba CEBU International Logistics, 6233 San Leandro Street, Oakland, CA 94621. Officers: Noel Allosa, Vice President (Qualifying Individual). Luis Alvares, CEO.

Non-Vessel Operating Common Carrier and Ocean Freight Forwarder Transportation Intermediary Applicants:

Total Transportation Services Worldwide, LLC, 879 W. 190th Street, Ste. 920, Gardena, CA 90248. Officers: Nobuyuki Suzuki, President (Qualifying Individual). Dennis Farnsworth, Vice President.

V Logistics Inc., 1001 Nicholas Blvd., Unit A, Elk Grove Village, IL 60007. Officers: Kin C. Leung, Secretary (Qualifying Individual). Anne Lai, President.

Borderline Shipping Inc., 4415 Metro Parkway, #110, Ft. Myers, FL 33916. Officers: Edson Araujo, Vice President (Qualifying Individual). Marcelo S. Moura, President.

Ocean Freight Forwarder—Ocean Transportation Intermediary Applicants:

ITW International, Inc., 879 W. 190th Street, Ste. 438, Torrance, CA 90248. Officer: Jyhren J. Kuo, President (Qualifying Individual).

Brand Logistix LLC, 5101 Buffington Road, Ste. 3448, College Park, GA 30349. Officers: Brenda Alexander, President (Qualifying Individual). Randy H. Tagoe, CEO.

Dated: January 4, 2008.
Karen V. Gregory,
Assistant Secretary.

[FR Doc. E8-197 Filed 1-8-08; 8:45 am]

BILLING CODE 6730-01-P